FEDERAL MARITIME COMMISSION

Agency Information Collection Activities; Information Collection Request

AGENCY: Federal Maritime Commission.

ACTION: Notice.

SUMMARY: The Federal Maritime Commission (Commission) is giving public notice that the agency has submitted to the Office of Management and Budget (OMB) for approval the information collection described in this notice. The public is invited to comment on the proposed information collections pursuant to the Paperwork Reduction Act of 1995.

DATES: Written comments must be submitted at the addresses below on or before August 14, 2017.

ADDRESSES: Comments should be addressed to: Office of Information and Regulatory Affairs, Office of Management and Budget, Attention: Desk Officer for Federal Maritime Commission, 725—17th Street NW., Washington, DC 20503, OIRA_Submission@OMB.EOP.GOV, Fax (202) 395-6974, and to: Karen V. Gregory, Managing Director, Office of the Managing Director, Federal Maritime Commission, 800 North Capitol Street NW., Washington, DC 20573, Telephone: (202) 523-5800, omd@fmc.gov.

FOR FURTHER INFORMATION CONTACT: A copy of the submission may be obtained by contacting Donna Lee on 202-523-5800 or email: omd@fmc.gov.

SUPPLEMENTARY INFORMATION:

Requests for Comments

Pursuant to the Paperwork Reduction Act of 1995 (Pub. L. 104-13), the Commission invites the general public and other Federal agencies to comment on a proposed information collection. On September 3, 2015, the Commission published a 60-day notice and request for comments in the Federal Register (80 FR 53310) regarding the agency's request for an approval from OMB for a new OMB control number as required by the Paperwork Reduction Act of 1995 (PRA). The Commission received no comments on the request for OMB clearance. The 60-day notice originally announced plans to submit a Generic Information Collection Request to OMB. However, after further consultation with OMB, the Commission gives notice of its plan to submit a request to approve a regular collection, and again invites comment on this information collection. The Commission solicits written comments from all interested persons about the proposed new OMB control number. The Commission specifically solicits information relevant to the following topics: (1) Whether the collection of information described below is necessary for the proper performance of the Commission's functions, including whether the information would have practical utility; (2) whether the estimated burden of the proposed collection of information is accurate; (3) whether the quality, utility, and clarity of the information to be collected could be enhanced; and (4) whether the burden imposed by the collection of information could be minimized by use of automated, electronic, or other forms of information technology.

Information Collection Open for Comment

Title: Request for Dispute Resolution Service.

OMB Control Number: New.

Type of Review: Existing Collection in use without OMB control number.

Frequency of Response: On occasion.

Respondents/Affected Public: Companies or individuals seeking ombuds or mediation assistance from the Federal Maritime Commission's Office of Consumer Affairs and Dispute Resolution Services (CADRS).

Estimated Total Number of Potential Annual Responses: 689.

Estimated Total Number of Responses for Each Respondent: 1.

Estimated Total Annual Burden Hours per Response: 20 minutes.

Total Estimated Number of Annual Burden Hours: 227.

Abstract: As requested by the shipping public and the regulated industry, the Commission, through CADRS, provides ombuds and mediation services to assist parties in resolving international ocean cargo shipping or passenger vessel (cruise) disputes without resorting to litigation or administrative adjudication. These functions focus on addressing issues that members of the regulated industry and the shipping public may encounter at any stage of a commercial or customer dispute. In order to provide its ombuds and mediation services, CADRS needs certain identifying information about the involved parties, shipments, and nature of the dispute. In response to requests for assistance from the public, CADRS requests this information from parties seeking its assistance. The collection and use of this information on a cargo or cruise dispute is integral to CADRS staff's ability to efficiently review the matter and provide assistance. Aggregated information may be used for statistical purposes. Currently, this information is collected in a non-uniform manner in response to requests for CADRS assistance. http://www.fmc.gov/resources/requesting_cadrs_assistance.aspx

As required by the Administrative Dispute Resolution Act (ADRA), 5 U.S.C. 571-574, the information contained in these forms is treated as confidential and subject to the same confidentiality provisions as administrative dispute resolutions pursuant to 5 U.S.C. 574. Except as specifically set forth in 5 U.S.C. 574, neither CADRS staff nor the parties to a dispute resolution shall disclose any informal dispute resolution communication.

This information collection is subject to the PRA. The FMC may not conduct or sponsor a collection of information, and the public is not required to respond to an information collection, unless it is approved by the OMB under the PRA and displays a currently valid OMB Control Number. In addition, notwithstanding any other provisions of law, no person shall be subject to penalty for failing to comply with a collection of information that does not display a valid Control Number. See 5 CFR 1320.5(a) and 1320.6.

Authority: 46 U.S.C. 40101 et seq.

Rachel Dickon,
Assistant Secretary.

[FR Doc. 2017-14760 Filed 7-13-17; 8:45 am]

BILLING CODE 6731-AA-P